NATIONAL AERONAUTICS AND SPACE ADMINISTRATION

[Notice 01-24]

NASA Advisory Council (NAC), Space Science Advisory Committee (SScAC), Structure and Evolution of the Universe Subcommittee

AGENCY: National Aeronautics and Space Administration.

ACTION: Notice of meeting.

SUMMARY: In accordance with the Federal Advisory Committee Act, Pub. L. 92-463, as amended, the National Aeronautics and Space Administration announces a meeting of the NASA Advisory Council, Space Science Advisory Committee, Structure and Evolution of the Universe Subcommittee.

DATES: Monday, March 5, 2001, 8:30 a.m. to 5:30 p.m., and Tuesday, March 6, 2001, 8:30 a.m. to 5 p.m.

ADDRESSES: National Aeronautics and Space Administration, Conference Room 5H 46, 300 E Street, SW., Washington, DC 20546.

FOR FURTHER INFORMATION CONTACT: Dr. Alan Bunner, Code S, National Aeronautics and Space Administration, Washington, DC 20546, (202) 358-2150.

SUPPLEMENTARY INFORMATION: The meeting will be open to the public up to the capacity of the room. The agenda for the meeting is as follows:

—Associate Administrator's Program Status Report

—Report from the Theme Director

—Recent Space Science Advisory Committee

—Report of the Research and Analysis Task Group

—Progress on Energetic X-Ray Imagery Survey Telescope

—Ultra Long Duration Balloon

It is imperative that the meeting be held on these dates to accommodate the scheduling priorities of the key participants. Visitors will be requested to sign a visitor's register.

Dated: February 7, 2001.
Beth M. McCormick,
Advisory Committee Management Officer, National Aeronautics and Space Administration.

[FR Doc. 01-3480 Filed 2-9-01; 8:45 am]

BILLING CODE 7510-01-U